DEPARTMENT OF HEALTH AND HUMAN SERVICES

Centers for Disease Control and Prevention

[30Day-06-0314]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Cycle 7 of the National Survey of Family Growth (NSFG-7)—OMB No. 0920-0314—Reinstatement—National Center for Health Statistics (NCHS), Centers for Disease Control and Prevention.

Background and Brief Description

The National Survey of Family Growth (NSFG) has been conducted periodically since 1973 by the CDC's National Center for Health Statistics. The first five cycles were based on in-person interviews with national samples of women 15-44 years of age. Cycle 6, in 2002, was based on interviews with a national sample of 12,571 persons—4,928 men and 7,643 women ages 15-44. Interviews provide national estimates of behavior related to birth and pregnancy rates; marriage, divorce, and adoption; behavior related to the risk of Human Immunodeficiency Virus (HIV) and other sexually transmitted diseases; attitudes toward marriage, childbearing, and parenthood; and men's and women's roles in raising children.

While the content of Cycle 7 will be similar to that of Cycle 6, the interviewing will be conducted over a 4.5-year period rather than all in one year, as in previous cycles. This continuous interviewing design is intended to reduce costs, increase efficiency, and contribute to continuous improvement in the collection, processing, and dissemination of the data. Sample size is expected to increase from 12,571 in Cycle 6 to 17,400 total in the 4.5 years of data collection in Cycle 7. For this cycle, the “Pretest” will be conducted initially in the first 8 weeks of interviewing and, if no problems are found, those weeks will become part of the Main Study. If operational problems are found in that period, they will be corrected, and the “Main Study” will begin at that point. Emerging public policy issues may necessitate the addition of a few new questions. The burden table represents the survey collection averaged over the first three years of the survey.

Users of the NSFG include the National Institutes of Health National Institute of Child Health and Human Development; the Office of Population Affairs; NCHS/CDC; the Division of Reproductive Health, CDC; the Divisions of HIV/AIDS Prevention, CDC; the Office of the Assistant Secretary for Planning and Evaluation; and the Administration for Children and Families.

There are no costs to the respondents other than their time. The total estimated annualized burden hours are 6,457

Estimated Annualized Burden Table
Respondents/instruments | Number of respondents | Number of responses per respondent | Average burden per response (in hours)
Pretest Screener | 403 | 1 | 5/60
Males | 109 | 1 | 1.00
Females | 133 | 1 | 1.33
Main study screener | 7,250 | 1 | 5/60
Males | 1,957 | 1 | 1.00
Females | 2,393 | 1 | 1.33
Verification | 725 | 1 | 5/60
Test new questions | 2,000 | 1 | 10/60

Dated: February 24, 2006.
Joan F. Karr,
Acting Reports Clearance Officer, Centers for Disease Control and Prevention.

[FR Doc. E6-3024 Filed 3-2-06; 8:45 am]

BILLING CODE 4163-18-P